DEPARTMENT OF ENERGY

Western Area Power Administration

Boulder Canyon Project

Correction

In notice document 02-4617 beginning on page 8664 in the issue of Wednesday, February 27, 2002, make the following correction:

On page 8964, the table at the bottom of the page is changed to read as follows:

Comparison of Current and Proposed Base Charge and Rates
| Current Oct. 1, 2001 through Sept. 30, 2002 | Proposed Oct. 1, 2002 through Sept. 30, 2003 | % change increase
Total Composite (mills/kWh) | 10.32 | 12.44 | 21
Base Charge ($) | 48,039,988 | 58,993,730 | 23
Energy Rate (mills/kWh) | 5.33 | 6.22 | 17
Capacity Rate ($/kWmonth) | 0.99 | 1.26 | 27

[FR Doc. C2-4617 Filed 3-14-02; 8:45 am]

BILLING CODE 1505-01-D

ENVIRONMENTAL PROTECTION AGENCY

40 CFR Part 62

[IN139-1a; FRL-7155-3]

Approval and Promulgation of State Implementation Plans; Indiana

Correction

In rule document 02-5598 beginning on page 10620 in the issue of Friday, March 8, 2002 make the following correction:

PART 62—[CORRECTED]

On page 10622, in the second column, under amendatory instruction 2. in the new center heading, in the seventh line, “Aust” should read “August”.

[FR Doc. C2-5598 Filed 3-14-02; 8:45 am]

BILLING CODE 1505-01-D

FEDERAL TRADE COMMISSION

Agency Information Collection Activities; Proposed Collection; Comment Request; Extension

Correction

In notice document 02-5128 beginning on page 9737 in the issue of Monday, March 4, 2002, make the following correction:

On page 9738, in the first column, the third paragraph should read:

“Burden hours and costs for established entities: Burden for established entities already familiar with the Rule would predictably be less than for start-up entities since start-up costs, such as crafting a privacy policy, are generally one-time costs and have been incurred. Staff's best estimate of the average burden for these entities as follows:”

[FR Doc. C2-5128 Filed 3-14-02; 8:45 am]

BILLING CODE 1505-01-D

DEPARTMENT OF HEALTH AND HUMAN SERVICES

Centers for Medicare & Medicaid Services

42 CFR Part 403

[CMS-4027-P]

RIN 0938-AL25

Medicare Program; Medicare-Endorsed Prescription Drug Card Assistance Initiative

Correction

In proposed rule document 02-5129 beginning on page 10262 in the issue of Wednesday, March 6, 2002, make the following correction:

On page 10272, in table 1, under the column “Drug groups/subgroups (subgroups where shown are indented)”, in the second line, “Vasodilators 3”, should read, “Vasodilators”.

[FR Doc. C2-5129 Filed 3-14-02; 8:45 am]

BILLING CODE 1505-01-D

DEPARTMENT OF TRANSPORTATION

Federal Aviation Administration

14 CFR Part 71

[Airspace Docket No. 01-AGL-16]

Modification of Class E Airspace; Portsmouth, OH

Correction

In rule document 02-5629 beginning on page 10839 in the issue of Monday, March 11, 2002 make the following correction:

§71.1 [Corrected]

1. On page 10840, in §71.1, in the second column, under the heading AGL OH E5 Portsmouth, OH [Revised], the third line, ‘25”’ should read ‘26”.’

[FR Doc. C2-5629 Filed 3-14-02; 8:45 am]

BILLING CODE 1505-01-D

DEPARTMENT OF TRANSPORTATION

Federal Aviation Administration

14 CFR Part 71

[Airspace Docket No. 01-AGL-20]

Modification of Class E Airspace; Washington Court House, OH

Correction

§71.1 [Corrected]

In rule document 02-5628 beginning on page 10840 in the issue of Monday, March 11, 2002 make the following correction:

1. On page 10841, in §71.1, in the third column, in the third line, “radious” should read “radius.”

[FR Doc. C2-5628 Filed 3-14-02; 8:45 am]

BILLING CODE 1505-01-D

DEPARTMENT OF TRANSPORTATION

Federal Aviation Administration

14 CFR Part 71

[Airspace Docket No. 01-AGL-21]

Modification of Class E Airspace; Zanesville OH

Correction

In rule document 02-5633 beginning on page 10835 in the issue of Monday, March 11, 2002 make the following corrections:

§71.1 [Corrected]

1. On page 10836, in §71.1, in the third column, in the first paragraph, in the fifth line “radiul” should read “radial.”.

2. On the same page, in the same section, in the same column, in the same paragraph, in the eighth line “radius” should read “radial.”.

3. On the same page, in the same section, in the same column, in the same paragraph, in the ninth line, “northwest” should read “northeast.”.

[FR Doc. C2-5633 Filed 3-14-02; 8:45 am]

BILLING CODE 1505-01-D